NATIONAL SCIENCE FOUNDATION

Engineering Advisory Committee; Notice of Meeting

In accordance with Federal Advisory Committee Act (Pub. L. 92-463, as amended), the National Science Foundation announces the following meeting:

Name: Engineering Advisory Committee Meeting #1170.

Date/Time: October 22, 2014: 12:15 p.m. to 6 p.m. October 23, 2014: 8:30 a.m. to 12:30 p.m.

Place: National Science Foundation, 4201 Wilson Boulevard, Suite 1235, Arlington, Virginia 22230.

Type of Meeting: OPEN.

Contact Person: Evette Rollins, National Science Foundation, 4201 Wilson Boulevard, Suite 505, Arlington, VA 22230; Telephone 703-292-8300.

Purpose of Meeting: To provide advice, recommendations and counsel on major goals and policies pertaining to engineering programs and activities.

Agenda:

Wednesday, October 22, 2014

• The Federal Advanced Manufacturing Landscape

• The Future of Advanced Manufacturing

• Directorate for Engineering Update

• OSTP Perspective on Engineering at NSF

Thursday, October 23, 2014

• Perspectives from the Office of the Director

• Planning for ENG AdCom Subcommittee Work

• Overview, Division of Chemical, Bioengineering, Environmental, and Transport Systems (CBET)

• Roundtable on ENG Strategic Activities and Recommendations

Dated: October: 6, 2014.
Suzanne Plimpton,
Acting Committee Management Officer.

[FR Doc. 2014-24139 Filed 10-8-14; 8:45 am]

BILLING CODE 7555-01-P